SMALL BUSINESS ADMINISTRATION

Revocation of License of Small Business Investment Company

Pursuant to the authority granted to the United States Small Business Administration by the Final Order of the United States District Court for the District of Connecticut, entered April 29, 2016, the United States Small Business Administration hereby revokes the license of First New England Capital 2, L.P., a Delaware Limited Partnership, to function as a small business investment company under the Small Business Investment Company License No. 01710374 issued to First New England Capital 2, L.P., on March 25, 1988, and said license is hereby declared null and void as of July 19, 2016.

United States Small Business Administration.
Dated: November 10, 2016.
Mark L. Walsh,
Associate Administrator for Investment.

[FR Doc. 2016-27722 Filed 11-17-16; 8:45 am]

BILLING CODE P